DEPARTMENT OF COMMERCE

International Trade Administration

[A-570-051]

Certain Hardwood Plywood Products From the People's Republic of China: Final Results of Antidumping Duty Administrative Review and Final Determination of No Shipments; 2019

AGENCY: Enforcement and Compliance, International Trade Administration, Department of Commerce.

SUMMARY: The Department of Commerce (Commerce) continues to determine that 24 exporters of certain hardwood plywood products (hardwood plywood) from the People's Republic of China (China) under review had no shipments of subject merchandise during the period of review (POR) January 1, 2019, through December 31, 2019. Commerce also continues to determine that Lianyungang Yuantai International Trade Co., Ltd. (Yuantai) and 33 additional companies subject to this review are part of the China-wide entity because they failed to demonstrate their eligibility for separate rates.

DATES: Applicable November 12, 2021.

FOR FURTHER INFORMATION CONTACT: Emily Halle, AD/CVD Operations, Office V, Enforcement and Compliance, International Trade Administration, U.S. Department of Commerce, 1401 Constitution Avenue NW, Washington, DC 20230; telephone: (202) 482-0176.

SUPPLEMENTARY INFORMATION:

Background

On January 21, 2021, Commerce published the Preliminary Results of this administrative review.¹ We invited parties to comment on the Preliminary Results. On October 27, 2021, Commerce extended the deadline for the final results of this administrative review.² The deadline for the final results of this review is now November 5, 2021. A complete summary of the events that occurred since publication of the Preliminary Results may be found in the Issues and Decision Memorandum.³

¹ See Certain Hardwood Plywood from the People's Republic of China: Preliminary Results of Antidumping Duty Administrative Review and Preliminary Determination of No Shipments; 2019, 86 FR 6298 (January 21, 2021) (Preliminary Results).

² See Memorandum, “Certain Hardwood Plywood from the People's Republic of China: Extension of Deadline for Final Results of Antidumping Duty Administrative Review, 2019,” dated October 27, 2021.

³ See Memorandum, “Issues and Decision Memorandum for the Final Results of the Administrative Review of the Antidumping Duty Order on Certain Hardwood Plywood Products from the People's Republic of China; 2019,” dated concurrently with, and hereby adopted by, this notice (Issues and Decision Memorandum).

Scope of the Order ⁴

⁴ See Certain Hardwood Plywood Products from the People's Republic of China: Amended Final Determination of Sales at Less Than Fair Value, and Antidumping Duty Order, 83 FR 504 (January 4, 2018) (Order).

The products covered by the Order are hardwood plywood from China. For a full description of the scope, see the Issues and Decision Memorandum.

Analysis of Comments Received

All issues raised in the case and rebuttal briefs are addressed in the Issues and Decision Memorandum. A list of the issues that parties raised and to which we responded in the Issues and Decision Memorandum is attached to this notice in Appendix II. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

Based on a review of the record and the comment received from interested parties, we made no changes to the Preliminary Results.

Final Determination of No Shipments

Commerce preliminarily found that 24 exporters had not shipped subject merchandise to the United States during the POR.⁵ As noted in the Preliminary Results, we received no-shipment certifications from these exporters, and their statements were consistent with the information we received from U.S. Customs and Border Protection (CBP).⁶

⁵ These 24 exporters are: (1) Anhui Hoda Wood Co., Ltd.; (2) Celtic Co., Ltd.; (3) Cosco Star International Co., Ltd.; (4) Happy Wood Industrial Group Co., Ltd.; (5) Jiaxing Hengtong Wood Co., Ltd.; (6) Linyi Chengen Import and Export Co., Ltd.; (7) Linyi Evergreen Wood Co., Ltd.; (8) Linyi Glary Plywood Co., Ltd.; (9) Linyi Huasheng Yongbin Wood Co., Ltd.; (10) Linyi Jiahe Wood Industry Co., Ltd.; (11) Linyi Sanfortune Wood Co., Ltd.; (12) Qingdao Top P&Q International Corp.; (13) Shandong Qishan International Trading Co., Ltd.; (14) Shanghai Brightwood Trading Co., Ltd.; (15) Shanghai Futuwood Trading Co., Ltd.; (16) Shanghai Luli Trading Co., Ltd.; (17) Suining Pengxiang Wood Co., Ltd.; (18) Suqian Hopeway International Trade Co., Ltd.; (19) Suzhou Oriental Dragon Import and Export Co., Ltd.; (20) Vietnam Finewood Company Limited; (21) Xuzhou Jiangheng Wood Products Co., Ltd.; (22) Xuzhou Jiangyang Wood Industries Co., Ltd.; (23) Xuzhou Timber International Trade Co., Ltd.; and (24) Zhejiang Dehua TB Import & Export Co., Ltd.

⁶ See Memoranda, “Hardwood Plywood Products from the People's Republic of China (A-570-051): No shipment inquiry with respect to the company below during the period 01/01/2019 through 12/31/2019,” dated May 12, 2020; May 14, 2020, May 15, 2020, May 19, 2020, and May 21, 2020; see also Memoranda, “Hardwood Plywood Products from the People's Republic of China (A-570-051): No shipment inquiry with respect to the companies below during the period 01/01/2019 through 12/31/2019,” dated July 9, 2020, and July 17, 2020.

Although we received comments from the petitioner ⁷ on our preliminary no-shipment findings with respect to these 24 companies, we find that these comments provide no basis to change our preliminary findings. Therefore, for these final results, we continue to find that these 24 exporters had no shipments of subject merchandise to the United States during the POR.

⁷ The petitioner is the Coalition for Fair Trade in Hardwood Plywood.

China-Wide Entity

With the exception of the aforementioned 24 exporters that submitted no-shipment certifications, we find all other companies for which a review was requested, including Yuantai, to be part of the China-wide entity. Accordingly, the companies listed in Appendix I are part of the China-wide entity.

Because no party requested a review of the China-wide entity, and Commerce no longer considers the China-wide entity as an exporter conditionally subject to administrative reviews, we did not conduct a review of the China-wide entity. The rate previously established for the China-wide entity is 183.36 percent and is not subject to change as a result of this review.⁸

⁸ See Order.

Assessment Rates

We have not calculated any assessment rates in this administrative review. Based on record evidence, we have determined that the aforementioned 24 exporters had no shipments of subject merchandise, and, therefore, pursuant to Commerce's assessment practice, any suspended entries entered under their case numbers will be liquidated at the China-wide entity rate.⁹

⁹ See Non-Market Economy Antidumping Proceedings: Assessment of Antidumping Duties, 76 FR 65694 (October 24, 2011).

For all remaining companies subject to this review, which are part of the China-wide entity, we will instruct CBP to liquidate their entries at the current rate for the China-wide entity (i.e., 183.36 percent). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of subject merchandise from China entered, or withdrawn from warehouse, for consumption on or after the publication date, as provided by section 751(a)(2)(C) of the Act: (1) For previously-investigated or reviewed Chinese and non-Chinese exporters that received a separate rate in a prior segment of this proceeding, and which were not assigned the China-wide rate in this review, the cash deposit rate will continue to be the existing exporter-specific rate published for the most recently-completed period; (2) for all Chinese exporters of subject merchandise that have not been found to be entitled to a separate rate (including the companies listed in Appendix I), the cash deposit rate will be that for the China-wide entity (i.e., 183.36 percent); and (3) for all non-Chinese exporters of subject merchandise which have not received their own rate, the cash deposit rate will be the rate applicable to the Chinese exporter that supplied that non-Chinese exporter. These cash deposit requirements, when imposed, shall remain in effect until further notice.

Notification to Importers

This notice also serves as a final reminder to importers of their responsibility under 19 CFR 315.402(f)(2) to file a certificate regarding the reimbursement of antidumping duties prior to liquidation of the relevant entries during this review period. Failure to comply with this requirement could result in Commerce's presumption that reimbursement of antidumping duties occurred and the subsequent assessment of double antidumping duties.

Administrative Protective Orders

This notice also serves as the only reminder to parties subject to administrative protective order (APO) of their responsibility concerning the return or destruction of proprietary information disclosed under APO in accordance with 19 CFR 351.305(a)(3). Timely written notification of the return or destruction of APO materials, or conversion to judicial protective order, is hereby requested. Failure to comply with the regulations and terms of an APO is a violation subject to sanction.

Notification to Interested Parties

These final results are issued and published in accordance with sections 751(a)(1) and 777(i) of the Act, and 19 CFR 351.213(h).

Dated: November 5, 2021.
Ryan Majerus,
Deputy Assistant Secretary for Policy and Negotiations, Performing the Non-Exclusive Functions and Duties of The Assistant Secretary for Enforcement and Compliance.

Appendix I

List of Companies Determined To Be Part of the China-Wide Entity

1. Feixian Longteng Wood Co., Ltd.

2. Golder International Trade Co., Ltd.

3. Highland Industries-Hanlin

4. Huainan Mengping Import and Export Co., Ltd.

5. Jiangsu High Hope Arser Co., Ltd.¹⁰

¹⁰ This company previously had a separate rate but did not file a no shipment certification or request a separate rate.

6. Jiangsu Sunwell Cabinetry Co., Ltd.

7. Jiangsu Top Point International Co., Ltd.

8. Jiaxing Gsun Imp. & Exp. Co., Ltd.

9. Lianyungang Yuantai International Trade Co., Ltd.

10. Linyi Bomei Furniture Co., Ltd.

11. Linyi City Dongfang Jinxin Economic and Trade Co., Ltd. (a/k/a Linyi City Dongfang Jinxjin Economic and Trade Co., Ltd.)

12. Linyi Dahua Wood Co., Ltd.

13. Linyi Hengsheng Wood Industry Co., Ltd.

14. Linyi Linhai Wood Co., Ltd.

15. Linyi Mingzhu Wood Co., Ltd.

16. Pingyi Jinniu Wood Co., Ltd.

17. Qingdao Good Faith Import and Export Co., Ltd.

18. SAICG International Trading Co., Ltd.

19. Shandong Dongfang Bayley Wood Co., Ltd.

20. Shandong Jinhua International Trading Co., Ltd.

21. Shandong Jinluda International Trade Co., Ltd.

22. Shandong Senmanqi Import & Export Co., Ltd.

23. Shandong Shengdi International Trading Co., Ltd.

24. Sumec International Technology Co., Ltd.

25. Suzhou Fengshuwan Import and Export Trade Co., Ltd. a/k/a Suzhou Fengshuwan I&E Trade Co., Ltd.

26. Win Faith Trading Limited

27. Xuzhou Amish Import & Export Co., Ltd.

28. Xuzhou Andefu Wood Co., Ltd.

29. Xuzhou Constant Forest Industry Co., Ltd.

30. Xuzhou DNT Commercial Co., Ltd.

31. Xuzhou Longyuan Wood Industry Co., Ltd.

32. XuZhou PinLin International Trade Co., Ltd.

33. Xuzhou Shengping Imp and Exp Co., Ltd.

34. Yishui Zelin Wood Made Co., Ltd.

Appendix II

List of Topics Discussed in the Issues and Decision Memorandum

I. Summary

II. Background

III. Scope of the Order

IV. Discussion of the Issue

Comment 1: Correct Liquidation Instructions for POR Entries

V. Recommendation

[FR Doc. 2021-24705 Filed 11-10-21; 8:45 am]

BILLING CODE 3510-DS-P